DEPARTMENT OF LABOR

Employment and Training Administration

[TA-W-58,405]

NSK Corporation; Ann Arbor, MI; Notice of Revised Determination on Reconsideration

On February 1, 2006, the Department issued a Negative Determination Regarding Eligibility to Apply for Worker Adjustment Assistance and Alternative Trade Adjustment Assistance for the workers and former workers of NSK Corporation, Ann Arbor, Michigan. The Department's Notice of determination was published in the Federal Register on February 22, 2006 (71 FR 9161).

The initial negative determination was based on the findings that the subject firm did not import ball bearings or shift ball bearing production overseas during the relevant period. The Department conducted a survey of the subject company's major customers regarding their purchases of ball bearings. The survey revealed no increases of ball bearing imports while reducing purchases from the subject firm. The investigation also revealed that the subject firm had scheduled a shift of production from the subject facility to another domestic production facility.

By application dated March 21, 2006, the International Union, United Automobile, Aerospace and Agricultural Implement Workers of America (UAW) requested administrative reconsideration by the Department.

In the request for reconsideration, the UAW alleged that the subject firm had shifted production from NSK Corporation, Clarinda, Iowa to several overseas production facilities and that this shift of production had contributed significantly to worker separations at the subject facility.

During the reconsideration investigation, the Department contacted a subject firm official who stated that the subject firm shifted bearing production overseas and that the foreign-produced bearings were returning to the United States. The official also stated that due to excess domestic production capacity, the subject facility was closing. Worker separations began October 2005 and will continue through 2007. The subject facility will be completely closed in 2007.

The investigation also revealed that all criteria have been met in regard to Alternative Trade Adjustment Assistance (ATAA). A significant number or proportion of the worker group are age fifty years or over and workers possess skills that are not easily transferable. Competitive conditions within the industry are adverse.

Conclusion

After careful review of the additional facts obtained on reconsideration, I conclude that increased imports of bearings like or directly competitive with those produced at the subject facility contributed importantly to worker separations at the subject firm.

In accordance with the provisions of the Act, I make the following certification:

“All workers of NSK Corporation, Ann Arbor, Michigan who became totally or partially separated from employment on or after November 18, 2004, through two years from the date of this certification, are eligible to apply for adjustment assistance under Section 223 of the Trade Act of 1974, and are also eligible to apply for alternative trade adjustment assistance under Section 246 of the Trade Act of 1974.”

Signed in Washington, DC, this 11th day of April 2006.
Elliott S. Kushner,
Certifying Officer, Division of Trade Adjustment Assistance.

[FR Doc. E6-5765 Filed 4-17-06; 8:45 am]

BILLING CODE 4510-30-P